DEPARTMENT OF TRANSPORTATION

Federal Aviation Administration

14 CFR Part 97

[Docket No. 30508 Amdt. No. 3180]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective August 21, 2006. The compliance date for each SIAP and/or Weather Takeoff Minimums is specified in the amendatory provisions.

The incorporation by reference of certain publications listed in the regulations is approved by the Director of the Federal Register as of August 21, 2006.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169, or

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to Title 14 of the Code of Federal Regulations, Part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on August 11, 2006.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 28 September 2006

Dothan, AL, Dothan Regional, LOC BC RWY 14, Amdt 6F, CANCELLED

Willow, AK, Willow, RNAV (GPS) RWY 13, Orig

Willow, AK, Willow, RNAV (GPS) RWY 31, Orig

Willow, AK, Willow, Takeoff Minimums and Textual DP, Orig

Fayetteville/Springdale/Rogers, AR, Northwest Arkansas Regional, RNAV (GPS) RWY 16, Amdt 1

Fayetteville/Springdale/Rogers, AR, Northwest Arkansas Regional, RNAV (GPS) RWY 34, Amdt 1

Fayetteville/Springdale/Rogers, AR, Northwest Arkansas Regional, ILS OR LOC/DME RWY 16, Amdt 1

Fayetteville/Springdale/Rogers, AR, Northwest Arkansas Regional, ILS OR LOC/DME RWY 34, Amdt 1

Little Rock, AR, Adams Field, VOR/DME RNAV RWY 22R, Amdt 11A, CANCELLED

Mountain Home, AR, Ozark Regional, ILS OR LOC/DME RWY 5, ORIG

Mountain Home, AR, Ozark Regional, RNAV (GPS) RWY 5, Orig

Mountain Home, AR, Ozark Regional, RNAV (GPS) RWY 23, Orig

Mountain Home, AR, Ozark Regional, GPS RWY 5, Orig-C, CANCELLED

Mountain Home, AR, Ozark Regional, LOC/DME RWY 5, Orig, CANCELLED

Mountain Home, AR, Ozark Regional, GPS RWY 23, Orig-B, CANCELLED

Siloam Springs, AR, Smith Field, VOR/DME RNAV OR (GPS) RWY 18, Amdt 1, CANCELLED

Bullhead City, AZ, Laughlin/Bullhead Intl, RNAV (GPS) RWY 34, Amdt 1

Goodyear, AZ, Phoenix Goodyear, Takeoff Minimums and Textual DP, Orig

Goodyear, AZ, Phoenix Goodyear, RNAV (GPS) RWY 3, Orig

Arcata/Eureka, CA, Arcata, RNAV (GPS) RWY 1, Orig

Arcata/Eureka, CA, Arcata, RNAV (GPS) RWY 14, Orig

Arcata/Eureka, CA, Arcata, GPS RWY 2, Orig-A, CANCELLED

Arcata/Eureka, CA, Arcata, GPS RWY 14, Orig, CANCELLED

Byron, CA, Byron, RNAV (GPS) RWY 30, Orig

Byron, CA, Byron, GPS RWY 30, Orig, CANCELLED

Half Moon Bay, CA, Half Moon Bay, RNAV (GPS) Y RWY 12, Orig

Half Moon Bay, CA, Half Moon Bay, RNAV (GPS) Y RWY 30, Orig

Half Moon Bay, CA, Half Moon Bay, RNAV (GPS) Z RWY 12, Orig

Half Moon Bay, CA, Half Moon Bay, RNAV (GPS) Z RWY 30, Orig

Half Moon Bay, CA, Half Moon Bay, GPS RWY 12, Orig, CANCELLED

Half Moon Bay, CA, Half Moon Bay, GPS RWY 30, Orig-A, CANCELLED

Lancaster, CA, General WM J Fox Airfield, RNAV (GPS) RWY 6, Orig

Lancaster, CA, General WM J Fox Airfield, RNAV (GPS)-A, Orig, CANCELLED

Long Beach, CA, Long Beach/Daughtery Field, RNAV (RNP) RWY 12, Orig

Palm Springs, CA, Palm Springs International, RNAV (RNP) Y RWY 13R, Amdt 1

Palm Springs, CA, Palm Springs International, RNAV (RNP) Z RWY 13R, Orig

Palm Springs, CA, Palm Springs International, RNAV (RNP) Y RWY 31L, Amdt 1

Vacaville, CA, Nut Tree, RNAV (GPS) Y RWY 20, Orig

Vacaville, CA, Nut Tree, RNAV (GPS) Z RWY 20, Orig-A

Denver, CO, Centennial, VOR/DME RNAV RWY 28, Amdt 1B, CANCELLED

Greeley, CO, Greeley-Weld County, NDB RWY 34, Orig, CANCELLED

Hayden, CO, Yampa Valley, VOR-A, Amdt 4

Hayden, CO, Yampa Valley, VOR/DME-B, Amdt 1

Boca Raton, FL, Boca Raton, RNAV (GPS) RWY 5, Orig

Boca Raton, FL, Boca Raton, RNAV (GPS) RWY 23, Orig

Boca Raton, FL, Boca Raton, GPS RWY 5, Amdt 1A, CANCELLED

Boca Raton, FL, Boca Raton, Takeoff Minimums and Textual DP, Orig

Boca Raton, FL, Boca Raton, VOR/DME-A, Amdt 1

Fort Lauderdale, FL, Fort Lauderdale/Hollywood Intl, Takeoff Minimums and Textual DP, Amdt 4

Fort Lauderdale, FL, Fort Lauderdale/Hollywood Intl, RNAV (GPS) Y RWY 9R, Amdt 2

Fort Lauderdale, FL, Fort Lauderdale/Hollywood Intl, RNAV (RNP) Y RWY 9L, Orig

Fort Lauderdale, FL, Fort Lauderdale/Hollywood Intl, RNAV (RNP) Z RWY 27R, Orig

Fort Lauderdale, FL, Fort Lauderdale/Hollywood Intl, RNAV (GPS) Y RWY 27R, Amdt 1

Fort Lauderdale, FL, Fort Lauderdale/Hollywood Intl, RNAV (RNP) Z RWY 9R, Orig

Fort Lauderdale, FL, Fort Lauderdale/Hollywood Intl, RNAV (GPS) Z RWY 9L, Amdt 1

Fort Lauderdale, FL, Fort Lauderdale/Hollywood Intl, ILS OR LOC RWY 27R, Amdt 8

Fort Lauderdale, FL, Fort Lauderdale/Hollywood Intl, ILS OR LOC RWY 9L, Amdt 20

Fort Lauderdale, FL, Fort Lauderdale/Hollywood Intl, LOC/DME RWY 13, Orig

Fort Lauderdale, FL, Fort Lauderdale/Hollywood Intl, VOR RWY 27R, Amdt 12

Fort Lauderdale, FL, Fort Lauderdale/Hollywood Intl, LOC RWY 13, Amdt 1, CANCELLED

Miami, FL, Miami Intl, Takeoff Minimums and Textual DP, Amdt 16

Adel, GA, Cook County, VOR/DME RNAV RWY 5, Orig, CANCELLED

Cartersville, GA, Cartersville, NDB RWY 19, Amdt 4, CANCELLED

Columbus, GA, Columbus Metropolitan, NDB RWY 6, Amdt 28, CANCELLED

Washington, GA, Washington-Wilkes County, NDB RWY 13, Amdt 1, CANCELLED

Honolulu, HI, Honolulu Intl, RNAV (GPS) Y RWY 8L, Amdt 1

Honolulu, HI, Honolulu Intl, RNAV (RNP) Z RWY 8L, Orig

Honolulu, HI, Honolulu Intl, RNAV (RNP) RWY 26L, Orig

Arco, ID, Arco-Butte County, NDB-A, Orig-B, CANCELLED

Ankeny, IA, Ankeny Regional, NDB-A Orig B, CANCELLED

Dubuque, IA, Dubuque Regional, RNAV (GPS) RWY 13, Orig

Dubuque, IA, Dubuque Regional, RNAV (GPS) RWY 31, Orig

Dubuque, IA, Dubuque Regional, VOR RWY 13, Amdt 10

Dubuque, IA, Dubuque Regional, NDB OR GPS RWY 31, Amdt 8E, CANCELLED

Dubuque, IA, Dubuque Regional, Takeoff Minimum and Textual DP, Orig

Grinnell, IA, Grinnell Regional, NDB RWY 31, Amdt 3, CANCELLED

Muscatine, IA, Muscatine Muni, RNAV (GPS) RWY 6, Orig

Muscatine, IA, Muscatine Muni, RNAV (GPS) RWY 24, Orig

Muscatine, IA, Muscatine Muni, GPS RWY 6, Orig-B, CANCELLED

Muscatine, IA, Muscatine Muni, GPS RWY 24, Amdt 2B, CANCELLED

Shenandoah, IA, Shenandoah Muni, RNAV (GPS) RWY 4, Orig

Shenandoah, IA, Shenandoah Muni, NDB RWY 4, Orig-B

Shenandoah, IA, Shenandoah Muni, Takeoff Minimums and Textual DP, Amdt 1

Spencer, IA, Spencer Muni, NDB RWY 12, Amdt 1B, CANCELLED

Waterloo, IA, Waterloo Regional, RNAV (GPS) RWY 12, Orig

Waterloo, IA, Waterloo Regional, RNAV (GPS) RWY 30, Orig

Waterloo, IA, Waterloo Regional, VOR RWY 12, Amdt, 10

Waterloo, IA, Waterloo Regional, VOR/DME RWY 30, Amdt, 15

Waterloo, IA, Waterloo Regional, Takeoff Minimums and Textual DP, Orig

Waterloo, IA, Waterloo Regional, NDB RWY 12, Amdt 9A, CANCELLED

Chicago, IL, Chicago Midway Intl, ILS OR LOC RWY 4R, Orig

Chicago, IL, Chicago Midway Intl, ILS RWY 4R, Amdt 9C, CANCELLED

Chicago, IL, Chicago O'Hare Intl, ILS OR LOC RWY 14L, Amdt 29, ILS RWY 14L (CAT II), Amdt 29, ILS RWY 14L (CAT III), Amdt 29

Chicago, IL, Chicago O'Hare Intl, RNAV (GPS) RWY 14L, Amdt 1

Flora, IL, Flora Muni, NDB RWY 21, Amdt 5A, CANCELLED

Moline, IL, Quad City Intl, NDB RWY 9, Amdt 28, CANCELLED

Connersville, IN, Mettel Field, RNAV (GPS) RWY 18, Amdt 1

Connersville, IN, Mettel Field, RNAV (GPS) RWY 36, Amdt 1

Connersville, IN, Mettel Field, VOR-A, Amdt 1

Connersville, IN, Mettel Field, Takeoff Minimums and Textual DP, Amdt 2

Pittsburg, KS, Atkinson Muni, NDB-A, Orig, CANCELLED

Scott City, KS, Scott City Muni, RNAV (GPS) RWY 17, Orig

Scott City, KS, Scott City Muni, RNAV (GPS) RWY 35, Orig

Scott City, KS, Scott City Muni, GPS RWY 17, Orig, CANCELLED

Scott City, KS, Scott City Muni, GPS RWY 35, Orig, CANCELLED

Wellington, KS, Wellington Muni, NDB RWY 17, Amdt 5, CANCELLED

Frankfort, KY, Capital City, RNAV (GPS) RWY 24, Amdt 1

Frankfort, KY, Capital City, RNAV (GPS) RWY 6, Amdt 1

Lexington, KY, Blue Grass, RNAV (GPS) RWY 4, Amdt 1

Lexington, KY, Blue Grass, RNAV (GPS) RWY 22, Amdt 1

Lexington, KY, Blue Grass, ILS OR LOC RWY 4, Amdt 17

Lexington, KY, Blue Grass, VOR-A, Amdt 9

Lexington, KY, Blue Grass, Takeoff Minimums and Textual DP, Amdt 6

London, KY, London-Corbin Arpt-Magee Fld, ILS OR LOC RWY 6, Amdt 1

London, KY, London-Corbin Arpt-Magee Fld, RNAV (GPS) RWY 6, Orig

London, KY, London-Corbin Arpt-Magee Fld, RNAV (GPS) RWY 24, Orig

London, KY, London-Corbin Arpt-Magee Fld, GPS RWY 6, Orig-B, CANCELLED

London, KY, London-Corbin Arpt-Magee Fld, VOR RWY 6, Amdt 13

London, KY, London-Corbin Arpt-Magee Fld, VOR/DME RNAV RWY 6, Amdt 3D, CANCELLED

London, KY, London-Corbin Arpt-Magee Fld, GPS RWY 24, Orig-B, CANCELLED

London, KY, London-Corbin Arpt-Magee Fld, Takeoff Minimums and Textual DP, Amdt 3

Lake Charles, LA, Chennault Intl, NDB RWY 15, Orig CANCELLED

New Iberia, LA, Acadiana Regional, NDB OR GPS RWY 34, Amdt 8B CANCELLED

Slidell, LA, Slidell, NDB RWY 18, Amdt 1C, CANCELLED

Cape Girardeau, MO, Cape Girardeau Regional, NDB RWY 10, Amdt 10, CANCELLED

Higginsville, MO, Higginsville Industrial Muni, RNAV (GPS) RWY 16, Orig

Higginsville, MO, Higginsville Industrial Muni, RNAV (GPS) RWY 34, Orig

Higginsville, MO, Higginsville Industrial Muni, Takeoff Minimum and Textual DP, Orig

Kaiser/Lake Ozark, MO, Lee C Fine Memorial, RNAV (GPS) RWY 3, Orig

Kaiser/Lake Ozark, MO, Lee C Fine Memorial, RNAV (GPS) RWY 21, Orig

Kaiser/Lake Ozark, MO, Lee C Fine Memorial, VOR RWY 3, Amdt 6

Kaiser/Lake Ozark, MO, Lee C Fine Memorial, GPS RWY 21, Orig-B, CANCELLED

Kaiser/Lake Ozark, MO, Lee C Fine Memorial, Takeoff and Minimums and Textual DP, Amdt 1

Monticello, MO, Lewis County Regional, RNAV (GPS) RWY 18, Orig

Monticello, MO, Lewis County Regional, RNAV (GPS) RWY 36, Orig

Monticello, MO, Lewis County Regional, GPS RWY 18, Orig, CANCELLED

Monticello, MO, Lewis County Regional, GPS RWY 36, Orig, CANCELLED

Monticello, MO, Lewis County Regional, Takeoff Minimum and Textual DP, Orig

Poplar Bluff, MO, Poplar Bluff Municipal, NDB RWY 36, Amdt 1B, CANCELLED

St Louis, MO, Lambert-St Louis Intl, ILS OR LOC RWY 11, ILS RWY 11 (CAT II), ILS RWY 11 (CAT III), Orig-A

St Louis, MO, Lambert-St Louis Intl, ILS PRM RWY 11, Orig B, (Simultaneous Close Parallel)

West Plains, MO, West Plains Muni, RNAV (GPS) RWY 18, Orig

West Plains, MO, West Plains Muni, RNAV (GPS) RWY 36, Orig

West Plains, MO, West Plains Muni, GPS RWY 18, Amdt 1A, CANCELLED

West Plains, MO, West Plains Muni, GPS RWY 36, Orig, CANCELLED

West Plains, MO, West Plains Muni, Takeoff Minimum and Textual DP, Orig

Oxford, MS, University-Oxford, VOR/DME RNAV RWY 27, Amdt 3, CANCELLED

Oxford, MS, University-Oxford, VOR/DME RNAV RWY 9, Amdt 3, CANCELLED

West Point, MS, McCharen Field, VOR/DME RNAV RWY 36, Amdt 3A, CANCELLED

Billings, MT, Billings Logan Intl, VOR/DME RNAV RWY 28R, Amdt 2, CANCELLED

Chapel Hill, NC, Horace Williams, VOR/DME RNAV RWY 9, Orig, CANCELLED

Morganton, NC, Morganton-Lenoir, NDB RWY 3, Amdt 5, CANCELLED

Hobbs, NM, Lea County Regional, ILS OR LOC RWY 3, Amdt 7

Hobbs, NM, Lea County Regional, Takeoff Minimums and Textual DP, Orig

Roswell, NM, Roswell International Air Center, RNAV (GPS) RWY 3, Orig

Roswell, NM, Roswell International Air Center, RNAV (GPS) RWY 17, Orig

Roswell, NM, Roswell International Air Center, RNAV (GPS) RWY 21, Orig

Roswell, NM, Roswell International Air Center, RNAV (GPS) RWY 35, Orig

Roswell, NM, Roswell International Air Center, GPS-C, Orig, CANCELLED

Roswell, NM, Roswell International Air Center, GPS RWY 21, Orig, CANCELLED

Roswell, NM, Roswell International Air Center, GPS RWY 35, Orig-B, CANCELLED

Roswell, NM, Roswell International Air Center, VOR/DME RNAV RWY 35, Amdt 3, CANCELLED

Winnemucca, NV, Winnemucca Muni, RNAV (GPS) RWY 14, Orig

Winnemucca, NV, Winnemucca Muni, RNAV (GPS) RWY 32, Orig

Winnemucca, NV, Winnemucca Muni, GPS RWY 14, Orig-A, CANCELLED

Winnemucca, NV, Winnemucca Muni, GPS RWY 32, Orig, CANCELLED

Binghamton, NY, Greater Binghamton/Edwin A. Link Field, NDB RWY 34, Amdt 18, CANCELLED

New York, NY, John F. Kennedy Intl, Takeoff Minimums and Textual DP, Amdt 7

Kent, OH, Kent State Univ, RNAV (GPS) RWY 1, Amdt 1

Kent, OH, Kent State Univ, RNAV (GPS) RWY 19, Amdt 1

Norman, OK, University of Oklahoma Westheimer, VOR/DME RNAV RWY 3, Orig-G, CANCELLED

Oklahoma City, OK, Clarence E. Page Muni, RNAV (GPS) RWY 17R, Amdt 1

Oklahoma City, OK, Clarence E. Page Muni, RNAV (GPS) RWY 35L, Amdt 1

Oklahoma City, OK, Clarence E. Page Muni, VOR/DME RNAV RWY 17R, Amdt 1A, CANCELLED

Oklahoma City, OK, Clarence E. Page Muni, VOR/DME RNAV RWY 35L, Amdt 1A, CANCELLED

Oklahoma City, OK, Clarence E. Page Muni, Takeoff Minimums and Textual DP, Orig

Pendleton, OR, Pendleton/Eastern Oregon Regional at Pendleton, NDB or GPS-A, Amdt 7, CANCELLED

Philadelphia, PA, Philadelphia Intl, VOR/DME-A, Amdt 3

North Kingstown, RI, Quonset State, VOR/DME RNAV RWY 34, Amdt 2, CANCELLED

Columbia, SC, Columbia Metropolitan, NDB RWY 11, Amdt 23, CANCELLED

Jacksboro, TN, Campbell County, VOR/DME RNAV OR GPS-A, Amdt 4, CANCELLED

Jacksboro, TN, Campbell County, NDB RWY 23, Amdt 5, CANCELLED

Knoxville, TN, McGhee-Tyson, RNAV (GPS) RWY 5L, Amdt 1

Knoxville, TN, McGhee-Tyson, RNAV (GPS) RWY 23R, Amdt 1

Somerville, TN, Fayette Co., RNAV (GPS) RWY 19, Amdt 1

Somerville, TN, Fayette Co., Takeoff Minimums and Textual DP, Amdt 1

Springfield, TN, Springfield Robertson County, NDB RWY 4, Amdt 1, CANCELLED

Amarillo, TX, Tradewind, VOR/DME RNAV RWY 35, Orig-B, CANCELLED

Dumas, TX, Moore County, VOR/DME RNAV RWY 19, Amdt 3D, CANCELLED

Houston, TX, David Wayne Hooks Memorial, VOR/DME RNAV RWY 35L, Amdt 4, CANCELLED

Houston, TX, David Wayne Hooks Memorial, VOR/DME RNAV RWY 17R, Amdt 4, CANCELLED

Houston, TX, George Bush Intercontinental Arpt/Houston, VOR/DME RWY 33R, Amdt 14B, CANCELLED

Ingleside, TX, T P Mc Campbell, RNAV (GPS) RWY 13, Orig

Ingleside, TX, T P Mc Campbell, RNAV (GPS) RWY 31, Orig

Ingleside, TX, T P Mc Campbell, Takeoff Minimums and Textual DP, Orig

Marshall, TX, Harrison County, VOR/DME RNAV RWY 33, Amdt 1D, CANCELLED

Mineola/Quitman, TX, Wood County, VOR/DME RNAV RWY 18, Amdt 2, CANCELLED

San Angelo, TX, San Angelo Regional/Mathis Field, RNAV (GPS) RWY 18, Orig

Wichita Falls, TX, Sheppard AFB/Wichita Falls Muni, RNAV (GPS) RWY 33L, Amdt 1

Wichita Falls, TX, Sheppard AFB/Wichita Falls Muni, RNAV (GPS) RWY 15R, Amdt 1

Charlottesville, VA, Charlottesville-Albemarle, RNAV (GPS) Y RWY 21, Amdt 1

Charlottesville, VA, Charlottesville-Albemarle, RNAV (GPS) Z RWY 21, Orig

Roanoke, VA, Roanoke Regional/Woodrum Field, LDA RWY 6, Amdt 9

Moses Lake, WA, Grant County, VOR/DME RNAV RWY 22, Amdt 1A, CANCELLED

Eagle River, WI, Eagle River Union, RNAV (GPS) RWY 4, Orig

Eagle River, WI, Eagle River Union, GPS RWY 4, Orig, CANCELLED

Eagle River, WI, Eagle River Union, Takeoff Minimums and Textual DP, Orig

Marshfield, WI, Marshfield Muni, RNAV (GPS) RWY 16, Orig

Marshfield, WI, Marshfield Muni, RNAV (GPS) RWY 34, Orig

Marshfield, WI, Marshfield Muni, GPS RWY 16, Orig, CANCELLED

Marshfield, WI, Marshfield Muni, Takeoff Minimums and Textual DP, Orig

[FR Doc. E6-13590 Filed 8-18-06; 8:45 am]

BILLING CODE 4910-13-P